DEPARTMENT OF VETERANS AFFAIRS

[OMB Control No. 2900-0208]

Agency Information Collection Activities Under OMB Review

AGENCY: Veterans Health Administration, Department of Veterans Affairs.

ACTION: Notice.

SUMMARY: In compliance with the Paperwork Reduction Act (PRA) of 1995 (44 U.S.C., 3501 et seq.), this notice announces that the Veterans Health Administration (VHA), Department of Veterans Affairs, has submitted the collection of information abstracted below to the Office of Management and Budget (OMB) for review and comment. The PRA submission describes the nature of the information collection and its expected cost and burden; it includes the actual data collection instrument.

DATES: Comments must be submitted on or before March 15, 2000.

FOR FURTHER INFORMATION OR A COPY OF THE SUBMISSION CONTACT: Denise McLamb, Information Management Service (045A4), Department of Veterans Affairs, 810 Vermont Avenue, NW, Washington, DC 20420, (202) 273-8030 or FAX (202) 273-5981. Please refer to “OMB Control No. 2900-0208.”

SUPPLEMENTARY INFORMATION:

Titles:

a. Daily Log—Formal Contract, VA Form 10-6131.

b. Architect-Engineer Fee Proposal, VA Form 10-6298.

c. Supplement to SF 129, Solicitation Mailing List Application, VA Form 10-6299.

OMB Control Number: 2900-0208.

Type of Review: Reinstatement, without change, of a previously approved collection for which approval has expired.

Abstract:

a. VA Form 10-6131 is used by contractors to furnish daily reports verifying work progress and assure proper contract compliance.

b. VA Form 10-6298 is used by architect-engineering firms to submit a fee proposal on the scope and complexity of an individual project.

c. VA Form 10-6299 is mailed with SF 129, Solicitation Mailing List Application, to prospective bidders on VA contract projects.

An agency may not conduct or sponsor, and a person is not required to respond to a collection of information unless it displays a currently valid OMB control number. The Federal Register Notice with a 60-day comment period soliciting comments on this collection of information was published on April 23, 1999 at page 20061.

Affected Public: Business or other for-profit, and State, Local or Tribal Government.

Estimated Annual Burden: 7,400 hours.

a. Daily Log—Formal Contract, VA Form 10-6131—3,600 hours.

b. Architect-Engineer Fee Proposal, VA Form 10-6298—800 hours.

c. Supplement to SF 129, Solicitation Mailing List Application, VA Form 10-6299 3,000 hours.

Estimated Average Burden Per Respondent:

a. Daily Log—Formal Contract, VA Form 10-6131—12 minutes.

b. Architect-Engineer Fee Proposal, VA Form 10-6298—4 hours.

c. Supplement to SF 129, Solicitation Mailing List Application, VA Form 10-6299—1 hour.

Frequency of Response: On occasion.

Estimated Number of Respondents: 21,200.

a. Daily Log—Formal Contract, VA Form 10-6131—18,000.

b. Architect—Engineer Fee Proposal, VA Form 10-6298—200.

c. Supplement to SF 129, Solicitation Mailing List Application, VA Form 10-6299—3,000.

Send comments and recommendations concerning any aspect of the information collection to VA's OMB Desk Officer, Allison Eydt, OMB Human Resources and Housing Branch, New Executive Office Building, Room 10235, Washington, DC 20503 (202) 395-4650. Please refer to “OMB Control No. 2900-0208” in any correspondence.

Dated: December 30, 1999.
By direction of the Secretary.
Sandra McIntyre,
Management Analyst, Information Management Service.

[FR Doc. 00-3453 Filed 2-14-00; 8:45 am]

BILLING CODE 8320-01-U